DEPARTMENT OF JUSTICE

National Institute of Corrections

Solicitation for a Cooperative Agreement—Curriculum Development: Implementing and Sustaining an Evidence-Based Risk Reduction Approach for First- and Mid-Level Supervisors in Corrections Settings

AGENCY: National Institute of Corrections, U.S. Department of Justice.

ACTION: Solicitation for a Cooperative Agreement.

SUMMARY: The National Institute of Corrections (NIC) is seeking applications for the development of a competency-based, blended modality training curriculum that will provide corrections supervisors and managers with the knowledge, skills, and abilities needed to model, coach, implement, and oversee an evidence-based risk reduction approach in correctional settings.

DATES: Applications must be received by 12 noon EDT on Friday, September 3, 2010.

ADDRESSES: Mailed applications must be sent to: Director, National Institute of Corrections, 320 First Street, NW., Room 5002, Washington, DC 20534. Applicants are encouraged to use Federal Express, UPS, or similar service to ensure delivery by the due date.

Hand-delivered applications should be brought to 500 First Street, NW., Washington, DC 20534. At the front desk, dial 7-3106, extension 0 for pickup.

Faxed applications will not be accepted. Electronic applications can only be submitted via http://www.grants.gov.

FOR FURTHER INFORMATION CONTACT: All technical or programmatic questions concerning this announcement should be directed to Michael Guevara, Correctional Program Specialist, National Institute of Corrections. He can be reached by calling 303-365-4415, or by e-mail at mguevara@bop.gov.

SUPPLEMENTARY INFORMATION: Overview: NIC is seeking assistance to develop a blended learning curriculum for implementing and sustaining an evidence-based risk reduction approach for first- and mid-level supervisors in any and all correctional settings. The curriculum must adhere to NIC's Instructional Theory into Practice (ITIP) model, which applicants can find on NIC's Web site via the following link: http://www.nicic.gov/pubs/1992/010714.pdf. The curriculum must be based on applicable literature and products published by NIC over the last several years, as well as current research and practice in the field of corrections, adult learning, and instructional strategies. The curriculum will use a blended learning format and include a distance learning component. It may make use solely of a distance learning approach. The curriculum will be piloted and implemented in a future funding cycle.

Background: For years, NIC has been committed to promoting risk reduction through the use of evidence-based policies and practices. Most of the work NIC has completed in this area has taken the form of technical assistance, direct work with agencies, and the publication of papers and manuals on related topics. To date, much of the focus of NIC's work in evidence-based practices has been in the area of community corrections. NIC would like to expand on this work by making it applicable and accessible to all corrections disciplines by developing a curriculum for first- and mid-level managers, regardless of the corrections setting in which they work.

Purpose: To create a blended learning curriculum for implementing and sustaining an evidence-based risk reduction approach for first- and mid-level supervisors in corrections settings.

Scope of Work: At the end of this cooperative agreement, a curriculum should be developed using NIC's Instructional Theory into Practice (ITIP) model. The curriculum should include a facilitator's manual, participant's manual, action learning plan, and all relevant supplemental material (such as PowerPoint slides, visual &/or audio aids, handouts, exercises, etc.). The use of blended learning tools such as a live web-based training environment (e.g., WebEx), DVDs, satellite/Internet broadcasts, e-learning, or supplemental online training courses is mandatory. During the implementation phase, NIC may participate directly in the production of some or all of these products. Clear learning objectives should be contained in each lesson, and delivery modality should be based on how to most efficiently and effectively achieve these objectives. A pre- and post-test, as well as quizzes and action learning plans shall be developed as necessary. Consideration should be given to preparing participants through advance work, such as reading assignments or taking an online course through NIC's Learning Center. An evaluation, to be distributed at the conclusion of the training, will be developed. This evaluation must examine the content, processes, and delivery of the program; the evaluation should be designed to help revise and improve the training and curriculum.

Specific Requirements: The curriculum is intended to be part of a comprehensive strategy for implementing evidence-based risk reduction approaches in any corrections agency. First- and mid-level managers must model, coach, implement, and oversee these approaches and require specific knowledge, skills, and attitudes to do so. As an integral part of their jobs, and as part of a solid evidence-based model, supervisors must possess effective communication skills and the ability to enhance internal motivation. They must also be able to coach their staff in those same skills. Therefore, interpersonal communication skills and a technology such as motivational interviewing should be included in the curriculum, within the context of an overall approach to becoming an evidence-based organization. The curriculum will be based on products and documents developed by the National Institute of Corrections over the past several years, as well as other work from the private or public sector that can inform the development of an effective learning experience for students. Since this curriculum is about evidence-based approaches, both the content and learning design of the curriculum itself should have firm foundations in research. Please reference specific sources that will be used in the development of the curriculum. This blended learning curriculum will be in whole or in part a distance learning curriculum. Although there is no guarantee that the awardee/writer of this curriculum will participate in the implementation phase, ideas for how to maximize NIC resources during pilot and implementation should be included as part of the curriculum's instructional strategies. An example of a blended learning approach designed by the person or agency submitting the application should be included.

Document Requirements: Publications produced under this award must follow the “Guidelines for Preparing and Submitting Manuscripts for Publication” as found in the General Guidelines for Cooperative Agreements which will be included in the award package. All final publications submitted for posting on the NIC Web site must meet the federal government's requirement for accessibility (508 PDF or HTML file). All documents developed under this cooperative agreement must be submitted in draft form to NIC for review before the final products are delivered.

Application Requirements: Applications should be concisely written, typed double-spaced and reference the project by the “NIC Opportunity Number” and Title in this announcement. The package must include: A cover letter that identifies the audit agency responsible for the applicant's financial accounts as well as the audit period or fiscal year that the applicant operates under (e.g., July 1 through June 30); a program narrative in response to the statement of work (ten pages maximum for the program narrative), and a budget narrative explaining projected costs. The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://www.nicic.gov/Downloads/PDF/certif-frm.pdf.)

Applications may be submitted in hard copy, or electronically via http://www.grants.gov. If submitted in hard copy, there needs to be an original and three copies of the full proposal (program and budget narratives, application forms and assurances). The original should have the applicant's signature in blue ink.

Authority: Public Law 93-415.

Funds Available: NIC is seeking the applicant's best ideas regarding accomplishment of the scope of work and the related costs for achieving the goals of this solicitation. Up to $88,000.00 may be available for the development of this curriculum. The final budget and award amount will be negotiated between NIC and the successful applicant. Funds may be used only for the activities linked to the desired outcome of the project.

Eligibility of Applicants: An eligible applicant is any public or private agency, educational institution, organization, individual, or team with expertise in the described areas.

Review Considerations: Applications received under this announcement will be subjected to a 3- to 5-person NIC Peer Review Process. The criteria for the evaluation of each application will be as follows:

Programmatic (45%): Is there demonstrated knowledge of curriculum development? Is a specific model of curriculum development (e.g., ITIP) proposed? Is there demonstrated knowledge of training for first- and mid-level supervisor positions? Is there demonstrated knowledge of evidence-based practices? Is there demonstrated knowledge of how training in evidence-based practices fits into an overall strategy of organizational development? Is there demonstrated knowledge of the role of first- and mid-level supervisors in the process of organizational change? Is there demonstrated knowledge of techniques and/or interventions that successfully address acquisition and retention of new knowledge, skills and abilities? Does the proposal include blended and distance learning approaches? Are project goals/tasks adequately discussed? Are there any innovative approaches, techniques, or design aspects proposed that will enhance the project?

Organizational (30%): Do the skills, knowledge, and expertise of the organization and the proposed project staff demonstrate a high level of competency to carry out the tasks? Does the applicant/organization have the necessary experience and organizational capacity to carry out all goals of the project? If consultants and/or partnerships are proposed, is there a reasonable justification for their inclusion in the project and a clear structure to ensure effective coordination? Is the proposed budget realistic, does it provide sufficient cost detail/narrative, and does it represent good value relative to the anticipated results?

Project Management/Administration (25%): Does the applicant identify reasonable objectives, milestones, and measures to track progress? Is there a clear statement of how project goals will be accomplished, to include: Major tasks that will lead to achieving the goals, the strategies to be employed, required staffing and other required resources? Are the proposed project management and staffing plans clear, realistic, and sufficient to complete the project?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.ccr.gov. A CCR Handbook and worksheet can also be reviewed at the Web site.

Number of Awards: One.

NIC Opportunity Number: 10A64. This number should appear as a reference line in the cover letter, in box 4a of Standard Form 424, and outside of the envelope in which the application is sent.

Catalog of Federal Domestic Assistance Number: 16.601

Executive Order 12372: This project is not subject to the provisions of Executive Order 12372.

Morris L. Thigpen,
Director, National Institute of Corrections.

[FR Doc. 2010-21221 Filed 8-25-10; 8:45 am]

BILLING CODE 4410-36-P